DEPARTMENT OF TRANSPORTATION

Office of the Secretary

Review under 49 U.S.C. 41720 of United/US Airways Agreements

AGENCY: Office of the Secretary, Department of Transportation.

ACTION: Notice on Comment Procedures.

SUMMARY: The Department is giving interested persons an opportunity to submit comments by August 15, 2002, on agreements filed by United Air Lines and US Airways for Department review under 49 U.S.C. 41720. 67 FR 50745 (August 5, 2002). The Department wishes to provide additional information on its planned comment procedures.

DATES: All comments are due August 15, 2002.

FOR FURTHER INFORMATION CONTACT: Thomas Ray, Office of the General Counsel, 400 Seventh St. SW., Washington, DC 20590, (202) 366-4731.

SUPPLEMENTARY INFORMATION: On July 25 United and US Airways submitted code-share and frequent flyer program reciprocity agreements for review under 49 U.S.C. 41720. We have invited interested persons to submit comments on the agreements. 67 FR 50745 (August 5, 2002). In response to the questions asked by some interested persons about the applicable procedures, we are issuing this notice to provide additional information on our treatment of the documents and on the agreement review process.

As we stated in our notice inviting comments, the statute, 49 U.S.C. 41720, requires certain types of agreements between major U.S. airlines to be submitted to the Department at least thirty days before they can be implemented. By publishing a notice in the Federal Register, we may extend the waiting period by 150 days with respect to a code-sharing agreement and by sixty days for the other types of agreements covered by the advance-filing requirement. Since the parties to such an agreement do not require our prior approval, they may implement their agreement at the end of the waiting period (either the thirty-day period or any extended period implemented by us). Blocking them from implementing their agreements would normally require a determination by us under 49 U.S.C. 41712 (formerly section 411 of the Federal Aviation Act) that the agreements' implementation would be an unfair or deceptive practice or unfair method of competition that would violate that section. Formal enforcement proceedings would be necessary to make such a determination.

When we have reviewed other agreements under 49 U.S.C. 41720, we have done so informally and have not invited public comment. However, due to the public interest in the agreements between United and US Airways, we decided to give interested persons an opportunity to submit comments as part of our informal review. All comments are due by August 15.

We have made the redacted copies of the agreements between United and US Airways available for reading and copying in room PL-401 of the Nassif Building, located at 400 7th St. SW., Washington, DC. We plan to make the comments public as well, although this is not a docketed matter, except to the extent that commenters request confidential treatment under our rules, 14 CFR 302.12. Commenters need not serve their comments on anyone else. While we are allowing public access to the comments, we are not requesting reply comments. We plan to use the comments and other information in our possession to determine whether the waiting periods should be extended and whether we should institute a formal proceeding to investigate whether the implementation of the United/US Airways agreements would constitute an unfair or deceptive practice or unfair method of competition that would violate 49 U.S.C. 41712.

Issued in Washington, DC on August 8, 2002.
Read C. Van de Water,
Assistant Secretary for Aviation and International Affairs.

[FR Doc. 02-20441 Filed 8-12-02; 8:45 am]

BILLING CODE 4910-62-P